DEPARTMENT OF THE INTERIOR

National Park Service

[NPS-SERO-EVER-22108; PPSESERO03, PPMPSAS1Y.YP0000]

Recirculation and Adoption of the Central Everglades Planning Project Final Environmental Impact Statement

AGENCY: National Park Service, Department of the Interior.

ACTION: Notice of availability.

SUMMARY: The National Park Service (NPS), Everglades National Park (ENP), intends to adopt the Central Everglades Planning Project (CEPP) Final Environmental Impact Statement (Final EIS) issued by the U.S. Army Corps of Engineers (COE) in July 2014. Under applicable Council on Environmental Quality (CEQ) regulations, the NPS may adopt and recirculate the COE's Final EIS because the NPS proposed action is substantially the same as the action covered by the COE's Final EIS, and the NPS and partner agencies are ready to initiate detailed planning and compliance for these components of the plan.

DATES: The NPS will execute the Record of Decision (ROD) no sooner than 30 days following publication by the Environmental Protection Agency of its Notice of Availability of the Final EIS in the Federal Register.

ADDRESSES: An electronic copy of the Central Everglades Planning Project Final EIS, including Appendix C (Environmental and Cultural Resources), is available for download on the Army Corps of Engineers Web site at: http://www.saj.usace.army.mil/Missions/Environmental/Ecosystem-Restoration/Central-Everglades-Planning-Project/.

A hard copy of the Final EIS can be viewed at Everglades National Park Headquarters, 40001 State Road 9336, Homestead, Florida 33034.

FOR FURTHER INFORMATION CONTACT: Pedro Ramos, Superintendent, Everglades National Park, pedro_ramos@nps.gov, 305-242-7712, or Ben West, Chief, Planning & Compliance, SE Regional Office, ben_west@nps.gov, 404-507-5700.

SUPPLEMENTARY INFORMATION: The NPS is adopting the CEPP Final EIS, prepared by the COE. The CEQ regulations allow Federal agencies to adopt an EIS prepared by another Federal agency that meets the standards for an adequate statement. When the proposed actions are “substantially the same,” the adopting agency only needs to recirculate it as a final EIS. CEQ's regulations implementing NEPA strongly encourage agencies to reduce paperwork and delay (40 CFR 1500.4, 1500.5.). One of the methods identified by CEQ to accomplish this goal is adopting the environmental documents prepared by other agencies in appropriate circumstances (40 CFR 1500.4(n), 1500.5(h), and 1506.3).

The CEPP combines several components of the Comprehensive Everglades Restoration Plan (CERP), and is designed to redirect water that is currently being discharged to the Atlantic Ocean and Gulf of Mexico to the Everglades and Florida Bay. The project optimizes the use of public lands to move additional water to the south. The CEPP will deliver approximately 210,000 acre-feet of water from Lake Okeechobee to the central Everglades every year. The recommended plan, Alternative 4R2, includes features to store, treat, and deliver water as sheetflow at the top of Water Conservation Area (WCA) 3A and calls for removal of barriers to sheetflow flow between WCA-3A, WCA 3B, and Everglades National Park.

These actions have been addressed in general or program-level terms and include guidelines for future coordination requirements and programmatic consultations as methods of ensuring the project is avoiding and minimizing impacts to resources to the extent practicable, and complying with all applicable environmental laws and regulations. Because of the complexity of the plan, detailed designs are likely to be developed and implemented in phases.

The NPS is adopting the Final EIS, and will refine its direction in more focused environmental reviews and provide site specific impact analysis prior to implementation of proposed actions. The NPS will prepare its own Record of Decision for the Selected Alternative (4R2) in accordance with 40 CFR 1505.2. Before including your address, phone number, email address, or other personal identifying information in your comment, you should be aware that your entire comment, including your personal identifying information, may be made publicly available at any time. While you can ask us in your comment to withhold your personal identifying information from public review, we cannot guarantee that we will be able to do so.

Dated: November 10, 2016.
Stan Austin,
Regional Director, Southeast Region.

[FR Doc. 2016-28988 Filed 12-1-16; 8:45 am]

BILLING CODE 4312-52-P